DEPARTMENT OF ENERGY

Federal Energy Regulatory Commission

Combined Notice of Filings # 1

May 11, 2007.

Take notice that the Commission received the following electric corporate filings:

Docket Numbers: EC07-86-000.

Applicants: PurEnergy Caledonia, LLC; Caledonia Generating, LLC.

Description: PurEnergy Caledonia, LLC and Caledonia Generating, LLC submits an Application for Authorization under section 203 of the FPA.

Filed Date: 05/04/2007.

Accession Number: 20070510-0166.

Comment Date: 5 p.m. Eastern Time on Friday, May 25, 2007.

Docket Numbers: EC07-87-000.

Applicants: Oncor Electric Delivery Company; TXU Portfolio Management Company LP; Texas Energy Future Holdings Limited Partnership.

Description: Oncor Electric Delivery Company, et al. submit a joint application for authorization under section 203 of the FPA for Disposition of Jurisdictional Facilities and request for blanket authorization.

Filed Date: 05/04/2007.

Accession Number: 20070510-0168.

Comment Date: 5 p.m. Eastern Time on Monday, June 18, 2007.

Take notice that the Commission received the following exempt wholesale generator filings:

Docket Numbers: EG07-49-000.

Applicants: Sweetwater Wind 4 LLC.

Description: Sweetwater Wind 4 LLC submits notice of self-certification of its status as an exempt wholesale generator.

Filed Date: 05/02/2007.

Accession Number: 20070507-0208.

Comment Date: 5 p.m. Eastern Time on Wednesday, May 23, 2007.

Take notice that the Commission received the following electric rate filings:

Docket Numbers: ER95-1528-016; ER96-1088-043; ER01-2659-010; ER02-2199-008; ER03-54-008; ER07-585-002; ER03-56-008; ER96-1858-021; ER03-674-010; ER99-1936-009; ER01-1114-009; ER97-2758-016; ER05-89-009.

Applicants: Wisconsin Public Service Corporation; WPS Power Development, LLC and WPS Energy Services, Inc.; Combined Locks Energy Center, LLC; WPS Empire State, Inc.; WPS Beaver Falls Generation, LLC; Niagara Generation, LLC; WPS Syracuse Generation, LLC; Mid-American Power, LLC; Quest Energy, LLC; WPS Canada Generation, Inc. and WPS New England Generation, Inc.; WPS Westwood Generation, LLC; Advantage Energy, Inc.; Upper Peninsula Power Company.

Description: Integrys Energy Group, Inc submits Notice of Change in Status as set forth in the Commission's Order 652.

Filed Date: 04/30/2007.

Accession Number: 20070509-0108.

Comment Date: 5 p.m. Eastern Time on Monday, May 21, 2007.

Docket Numbers: ER01-570-007; ER98-4421-007; ER96-2350-027; ER99-791-005; ER99-806-004; ER99-3677-006.

Applicants: Consumers Energy Company; CMS Energy Resource Management Company; Grayling Generation Station Limited Partnership; Genesee Power Station Limited Partnership; CMS Generation Michigan Power L.L.C. Dearborn Industrial Generation, LLC.

Description: Consumers Energy Company submits a Notice of Change in Status.

Filed Date: 05/09/2007.

Accession Number: 20070509-5061.

Comment Date: 5 p.m. Eastern Time on Wednesday, May 30, 2007.

Docket Numbers: ER04-381-001.

Applicants: DC Energy, LLC.

Description: DC Energy, LLC submits a triennial Updated Market Analysis of DC Energy, LLC.

Filed Date: 05/09/2007.

Accession Number: 20070509-5082.

Comment Date: 5 p.m. Eastern Time on Wednesday, May 30, 2007.

Docket Numbers: ER06-185-003.

Applicants: New York Independent System Operator, Inc.

Description: Letter informing Commission that the NYISO has publicly posted RTGP mitigation related bid data.

Filed Date: 05/09/2007.

Accession Number: 20070509-5043.

Comment Date: 5 p.m. Eastern Time on Wednesday, May 30, 2007.

Docket Numbers: ER07-525-001.

Applicants: Entergy Services, Inc.

Description: Entergy Operating Companies submits their supplemental filing in which Entergy explains why Entergy and American Electric Power Service Corp. have agreed to the limitation of rollover rights etc.

Filed Date: 05/02/2007.

Accession Number: 20070509-0107.

Comment Date: 5 p.m. Eastern Time on Wednesday, May 23, 2007.

Docket Numbers: ER07-541-001.

Applicants: Entergy Services, Inc.

Description: Entergy Operating Companies submits their supplemental filing in which Entergy explains why Entergy and NRG Power Marketing have agreed to the limitation of rollover rights etc.

Filed Date: 05/02/2007.

Accession Number: 20070509-0106.

Comment Date: 5 p.m. Eastern Time on Wednesday, May 23, 2007.

Docket Numbers: ER07-549-001; EC06-126-003.

Applicants: NSTAR Electric Company.

Description: Response of NSTAR Electric Company to FERC Staff's April 10, 2007 Deficiency Letter.

Filed Date: 05/10/2007.

Accession Number: 20070510-5052.

Comment Date: 5 p.m. Eastern Time on Thursday, May 31, 2007.

Docket Numbers: ER07-834-001.

Applicants: New York Independent System Operator, Inc.

Description: New York Independent System Operator, Inc submits a revision to its 5/1/07 filing.

Filed Date: 05/07/2007.

Accession Number: 20070510-0156.

Comment Date: 5 p.m. Eastern Time on Tuesday, May 29, 2007.

Docket Numbers: ER07-862-000.

Applicants: New York Independent System Operator, Inc.

Description: New York Independent System Operator, Inc submits proposed revisions to its Market Administration & Control Areas Services Tariff to clarify & modify provisions governing its activation of its SCR program.

Filed Date: 05/04/2007.

Accession Number: 20070508-0284.

Comment Date: 5 p.m. Eastern Time on Friday, May 25, 2007.

Docket Numbers: ER07-863-000.

Applicants: Vermont Electric Cooperative, Inc.

Description: Vermont Electric Cooperative, Inc submits its 2007 transmission formula rate update to its charges produced by the formula rates applicable to the VEC-specific Local Service Schedules etc.

Filed Date: 05/04/2007.

Accession Number: 20070508-0283.

Comment Date: 5 p.m. Eastern Time on Friday, May 25, 2007.

Docket Numbers: ER07-865-000.

Applicants: Unitil Power Corp.

Description: Unitil Power Corp submits the a Statement of Billing Transactions under the Amended Unitil System Agreement for period of 1/1/06-12/31/06.

Filed Date: 05/01/2007.

Accession Number: 20070508-0281.

Comment Date: 5 p.m. Eastern Time on Tuesday, May 22, 2007.

Docket Numbers: ER07-866-000.

Applicants: TransCanada Energy Ltd.

Description: TransCanada Energy Ltd submits Notice of Cancellation of its market-based rate tariff, FERC Electric Rate Schedule 1.

Filed Date: 05/02/2007.

Accession Number: 20070508-0285.

Comment Date: 5 p.m. Eastern Time on Wednesday, May 23, 2007.

Docket Numbers: ER07-867-000.

Applicants: California Independent System Operator Corporation.

Description: California Independent System Operator Corporation submits informational filing pursuant to Article IX, section B of the Stipulation and Agreement approved by FERC on 5/28/99.

Filed Date: 05/07/2007.

Accession Number: 20070510-0164.

Comment Date: 5 p.m. Eastern Time on Tuesday, May 29, 2007.

Docket Numbers: ER07-868-000.

Applicants: PJM Interconnection, L.L.C.

Description: PJM Interconnection, L.L.C. submits revisions to the PJM Operating Agreement, FERC Electric Tariff, Third Revised Rate Schedule 24, Sixth Revised Volume 1 pursuant to section 205 of the FPA etc.

Filed Date: 05/07/2007.

Accession Number: 20070510-0157.

Comment Date: 5 p.m. Eastern Time on Tuesday, May 29, 2007.

Docket Numbers: ER07-869-000.

Applicants: California Independent System Operator Corporation.

Description: California Independent System Operator Corporation submits proposed tariff amendments to implement the initial Congestion Revenue Right allocation and auction processes under its Market Redesign et al.

Filed Date: 05/07/2007.

Accession Number: 20070510-0151.

Comment Date: 5 p.m. Eastern Time on Tuesday, May 29, 2007.

Take notice that the Commission received the following electric securities filings:

Docket Numbers: ES07-26-001.

Applicants: Entergy Services, Inc.

Description: Production of Document of Entergy Services, Inc.

Filed Date: 05/09/2007.

Accession Number: 20070509-5081.

Comment Date: 5 p.m. Eastern Time on Wednesday, May 30, 2007.

Take notice that the Commission received the following electric reliability filings:

Docket Numbers: RR07-12-000.

Applicants: North American Electric Reliability Corporation.

Description: Request of the North American Electric Reliability Corp for approval of supplemental violation risk factors for certain requirements in Version 1 reliability standards etc approved by the Commission in Order.

Filed Date: 05/04/2007.

Accession Number: 20070510-0160.

Comment Date: 5 p.m. Eastern Time on Thursday, May 24, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E7-9686 Filed 5-18-07; 8:45 am]

BILLING CODE 6717-01-P